DEPARTMENT OF ENERGY

Federal Energy Regulatory Commission

[Docket No. RP02-132-003]

Viking Gas Transmission Company; Notice To Place Tariff Sheets Into Effect

October 17, 2002.

Take notice that on October 11, 2002 Viking Gas Transmission Company (Viking) tendered for filing a Motion To Place Settlement Rates into Effect on an Interim Basis Subject To Conditions (Motion) and tendered for filing as part of its FERC Gas Tariff, First Revised Volume No. 1, the tariff sheets listed on Appendix A to the filing to become effective July 1, 2002 subject to the conditions set forth in Viking's Motion.

Viking states that the purpose of this filing is to place the Settlement Rates into effect on an interim basis subject to certain conditions in accordance with the Offer of Settlement filed in this proceeding on September 13, 2002.

Viking states that copies of this filing have been served on all parties designated on the official service list in this proceeding, on all Viking's jurisdictional customers and to affected state regulatory commissions.

Any person desiring to protest said filing should file a protest with the Federal Energy Regulatory Commission, 888 First Street, NE., Washington, DC 20426, in accordance with section 385.211 of the Commission's Rules and Regulations. All such protests must be filed on or before October 24, 2002. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 502-8659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-27054 Filed 10-24-02; 8:45 am]

BILLING CODE 6717-01-P